FEDERAL COMMUNICATIONS COMMISSION

Notice of Public Information Collection(s) Being Submitted for Review to the Office of Management and Budget

January 30, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 9, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via Internet at Allison_E._Zaleski@.omb.eop.gov and to Judith-B.Herman@fcc.gov, Federal Communications Commission, Room 1-B441, 445 12th Street, SW., Washington, DC 20554 or send an e-mail to PRA@fcc.gov. If you would like to obtain or view a copy of this information collection, you may do so by visiting the FCC PRA web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0678.

Title: Part 25 of the Commission's Rules Governing the Licensing of, and Spectrum Usage by, Satellite Network Stations and Space Stations.

Form No.: FCC Form 312, Schedule S.

Type of Review: Revision of a currently approved collection.

Respondents: Business or other for-profit.

Number of Respondents: 3,462 respondents; 3,462 responses.

Estimated Time Per Response: 12 hours (average).

Frequency of Response: On occasion and annual reporting requirements and third party disclosure requirement.

Obligation to Respond: Required to obtain or retain benefits.

Total Annual Burden: 42,116 hours.

Total Annual Cost: $613,719,126.

Privacy Act Impact Assessment: N/A.

Nature and Extent of Confidentiality: There is no need for confidentiality.

Needs and Uses: The Commission will submit this information collection to OMB as a revision during this comment period to obtain the full 3-year clearance from them. The Commission has revised this collection since it was last submitted to OMB. The Commission on its own motion, proposes to revise this collection to add a section to the FCC Form 312 which will enable satellite applicants to certify whether or not they are subject to geographic service or geographic coverage requirements and whether they will comply with those requirements. The Commission amended the FCC Form 312 in order to make it easier to ensure that applicants will comply with the geographic service rules and/or geographic coverage requirements contained in Part 25 of the Commission's rules. Without such information, the Commission could not determine whether to permit respondents to provide telecommunications services in the United States. Therefore, the Commission would be unable to fulfill its statutory responsibilities in accordance with the Communications Act of 1934, as amended, and the obligations imposed on parties to the WTO Basic Telecom Agreement.

OMB Control Number: 3060-1048.

Title: Section 1.929(c)(1), Composite Interference Contour (CIC).

Form No.: N/A.

Type of Review: Revision of a currently approved collection.

Respondents: Business or other for-profit, not-for-profit institutions, and state, local or tribal government.

Number of Respondents: 50 respondents; 50 responses.

Estimated Time Per Response: 2 hours.

Frequency of Response: On occasion reporting requirement and recordkeeping requirement.

Obligation to Respond: Required to obtain or retain benefits.

Total Annual Burden: 100 hours.

Total Annual Cost: N/A.

Privacy Act Impact Assessment: N/A.

Nature and Extent of Confidentiality: There is no need for confidentiality.

Needs and Uses: The Commission will submit this information collection to OMB as a revision during this comment period to obtain the full 3-year clearance from them.

The Commission has revised this collection since it was last submitted to OMB. On February 22, 2005, the Commission released a Report and Order in WT Docket No. 03-103 (70 FR 19293), which amended this section to specify that expansion of a composite interference contour (CIC) of a site-based licensee in the Paging and Radiotelephone Service—as well as the Rural Radiotelephone Service and 800 MHz Specialized Mobile Radio Service—over water on a secondary, non-interference basis should be classified as a minor (rather than a major) modification of a license. Such reclassification has eliminated the filing requirements associated with these license modifications, but requires site-based licensees to provide the geographic area licensee (on the same frequency) with the technical and engineering information necessary to evaluate the site-based licensee's operations over water. The purpose of this collection is to enable the geographic licensee to have technical and engineering information regarding a site-based licensee's operation over water in order to guard against unacceptable interference to its own operation(s).

OMB Control Number: 3060-0496.

Title: The ARMIS Operating Data Report.

Report No.: FCC Report 43-08.

Type of Review: Extension of a currently approved collection.

Respondents: Business or other for-profit.

Number of Respondents: 56 respondents; 56 responses.

Estimated Time Per Response: 139 hours.

Frequency of Response: Annual reporting requirement.

Obligation to Respond: Mandatory.

Total Annual Burden: 7,784 hours.

Total Annual Cost: N/A.

Privacy Act Impact Assessment: N/A.

Nature and Extent of Confidentiality: Ordinarily questions of a sensitive nature are not involved in the ARMIS Operating Data Report. The Commission contends that areas in which detailed information is required are fully subject to regulation and the issue of data being regarded as sensitive will arise in special circumstances only. In such circumstances, the respondent is instructed on the appropriate procedures to follow and safeguard sensitive data. Commission rules 47 CFR 0.459 contain the procedures for requesting confidential treatment of data.

Needs and Uses: The Commission will submit this information collection to OMB as an extension during this comment period to obtain the full 3-year clearance from them. There is no change in the number of respondents and/or burden hours.

ARMIS Report 43-08 monitors network growth, usage, and reliability. Section 43.21 of the Commission's rules details that requirement. The Automated Reporting Management Information System (ARMIS) was implemented to facilitate the timely and efficient analysis of revenue requirements, rates of return and price caps; to provide an improved basis for audits and other oversight functions; and to enhance the Commission's ability to quantify the effects of alternative policy.

OMB Control Number: 3060-0798.

Title: FCC Application for Wireless Telecommunications Bureau Radio Service Authorization.

Form No.: FCC Form 601.

Type of Review: Extension of a currently approved collection.

Respondents: Individuals or household, business or other for-profit, not-for-profit institutions, and state, local or tribal government.

Number of Respondents: 250,920 respondents; 250,920 responses.

Estimated Time Per Response: .50-1.25 hours.

Frequency of Response: On occasion and every 10 year reporting requirements, recordkeeping requirement and third party disclosure requirement.

Obligation to Respond: Required to obtain or retain benefits.

Total Annual Burden: 219,505 hours.

Total Annual Cost: $50,144,000.

Privacy Act Impact Assessment: Yes.

Nature and Extent of Confidentiality: Respondents may request materials or information submitted to the Commission be withheld from public inspection under 47 CFR 0.459 of the Commission's rules.

Needs and Uses: The Commission will submit this information collection to OMB as an extension during this comment period to obtain the full 3-year clearance from them. There is no change in the number of respondents, burden hours and/or annual costs.

The FCC Form 601 is a consolidated, multi-part application form, or “long form”, that is used for general market-based licensing and site-by-site licensing for wireless telecommunications and public safety services filed through the Commission's Universal Licensing System (ULS). FCC Form 601 is composed of a main form that contains the administrative information and a series of schedules used for filing technical and other information. Respondents are encouraged to submit FCC Form 601 electronically and are required to do so when submitting FCC Form 601 to apply for an authorization for which the applicant was the winning bidder in a spectrum auction. The data collected on the FCC Form 601 include the FCC Registration Number (FRN), which serves as a “common link” for all filings an entity has with the Commission. The Debt Collection Improvement Act of 1996 requires that those entities filing with the Commission use a FRN.

OMB Control Number: 3060-1044.

Title: Review of the Section 251 Unbundling Obligations of Incumbent Local Exchange Carriers, CC Docket No. 01-338 and WC Docket No. 04-313, FCC 04-290, Order on Remand.

Form No.: N/A.

Type of Review: Revision of a currently approved collection.

Respondents: Business or other for-profit, not-for-profit institutions, and state, local or tribal government.

Number of Respondents: 645 respondents; 645 responses.

Estimated Time Per Response: 8 hours.

Frequency of Response: On occasion reporting requirement, recordkeeping requirement and third party disclosure requirement.

Obligation to Respond: Required to obtain or retain benefits.

Total Annual Burden: 5,160 hours.

Total Annual Cost: N/A.

Privacy Act Impact Assessment: N/A.

Nature and Extent of Confidentiality: The Commission is not requesting respondents to submit or disclose confidential information. However, in certain circumstances, respondents may voluntarily choose to submit confidential information pursuant to applicable confidentiality rules, 47 CFR 0.459.

Needs and Uses: The Commission will submit this information collection to OMB as a revision during this comment period to obtain the full three-year clearance from them. The Commission has revised this collection since it was last submitted to OMB.

In the Order on Remand (FCC 04-290), the Commission responded to a decision by the United States Court of Appeals for the District of Columbia that vacated the “sub-delegation” of authority to state commissions and vacated and remanded certain nationwide impairment findings, including mass market switching and dedicated transport.

In the Order, the Commission adopted three specific service eligibility criteria for access to enhanced extended links (EELs), which are important to assure that requesting carriers may not obtain EELs if they do not provide services that qualify for unbundled network elements (UNEs) under the Commission's rules. The Order requires carriers to collect certain data regarding usage of local telephone networks, and includes the possibility of audits by the incumbent carrier. Under the first of the three EELs eligibility criteria, each carrier must have a state certification of authority to provide local voice service. Second, each carrier must have at least one local number assigned to each circuit and must provide 911 or E911 capability to each circuit, in order to demonstrate actual provision of local voice service. Third, each carrier must satisfy circuit-specific architectural safeguards. Carriers requesting EELs also must certify that they satisfy each criterion, subject to an incumbent local exchange carrier's (LECs) limited right to obtain an annual independent audit of the requesting carrier.

The Commission has revised this information collection to eliminate the state commission UNE proceeding requirement from the collection due to the Order on Remand. This has resulted in a −68,690 burden hours and −$5,275,000 in annual costs.

OMB Control Number: 3060-0942.

Title: Access Charge Reform, Price Cap Performance Review for Local Exchange Carriers, Low-Volume Long Distance Users, Federal-State Joint Board on Universal Service.

Form No.: N/A.

Type of Review: Extension of a currently approved collection.

Respondents: Business or other for-profit.

Number of Respondents: 759 respondents; 3,241 responses.

Estimated Time Per Response: 5-60 hours (average).

Frequency of Response: On occasion, quarterly and annual reporting requirements, recordkeeping requirement and third party disclosure requirement.

Obligation to Respond: Required to obtain or retain benefits.

Total Annual Burden: 21,321 hours.

Total Annual Cost: N/A.

Privacy Act Impact Assessment: N/A.

Nature and Extent of Confidentiality: The Commission is not requesting respondents to submit confidential information to the Commission or to USAC. If the Commission requests respondents to submit information to the Commission that the respondents believe are confidential, respondents may request confidential treatment of such information pursuant to 47 CFR 0.459 of the Commission's rules.

Needs and Uses: The Commission will submit this information collection to OMB as an extension during this comment period to obtain the full three-year clearance from them. In 2000, the Commission adopted an integrated interstate access reform and universal service proposal put forth by the members of the Coalition for Affordable Local and Long Distance Service (CALLS). The Commission requires the following information to be reported to the following entities under the CALLS proposal: (a) Tariff filing; (b) quarterly and annual data filings; and (c) cost support filings. The Commission and USAC (administrator) uses the information to ensure compliance with the interstate access reforms of the CALLS proposal, or uses the line count and other information filed by price cap and competitive LECs to determine, on a per-line basis, the amount that the carrier receives from the interstate access universal services support mechanism; or to implement requirements of section 201(b) of the Communications Act.

Federal Communications Commission.
Marlene H. Dortch,
Secretary.

[FR Doc. E7-1992 Filed 2-6-07; 8:45 am]

BILLING CODE 6712-01-P